CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled the Financial Status Report (FSR) form to the Office of Management and Budget (OMB) for review and approval in accordance with the Paperwork Reduction Act of 1995, Pub. L. 104-13, (44 U.S.C. Chapter 35). Copies of this ICR, with applicable supporting documentation, may be obtained by calling the Corporation for National and Community Service, Ms. Margaret Rosenberry at (202) 606-5000, ext. 124. Individuals who use a telecommunications device for the deaf (TTY-TDD) may call (202) 565-2799 between 8:30 a.m. and 5 p.m. eastern time, Monday through Friday.

ADDRESSES: Comments may be submitted, identified by the title of the information collection activity, to the Office of Information and Regulatory Affairs, Attn: Ms. Katherine Astrich, OMB Desk Officer for the Corporation for National and Community Service, by any of the following two methods within 30 days from the date of publication in this Federal Register:

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on February 28, 2005. This comment period ended April 28, 2004. No public comments were received from this notice.

Description: The Corporation is seeking approval of the modified Financial Status Report form to review and approve federal and non-federal expenditure of funds by Grants Management Specialists in the Office of Grants Management, in order to determine the grantee is meeting their statutory match requirements.

The Financial Status Report form will be completed electronically in the Corporation's grant system (eGrants) to evaluate their financial performance of federal funds. This modified form is also used exclusively to monitor our grantee's compliance levels required for the AmeriCorps program. The cost share requirements must indicate a minimum of 15% cash for members support expenses and at least 33% of program operating expenses. Financial Status Reports are requested semi-annually. The information collected has proven to be an effective tracking tool to maintain adequate financial management integrity.

Type of Review: Renewal.

Agency: Corporation for National and Community Service.

Title: AmeriCorps Financial Status Report; Standard Form 269A (Modified).

OMB Number: 3045-0103.

Agency Number: SF424-NSSC.

Affected Public: Current and prospective recipients of AmeriCorps program grants.

Total Respondents: 732.

Frequency: Semi-annually, with a few exceptions.

Average Time Per Response: 2 hours.

Estimated Total Burden Hours: 2,928 hours.

Total Burden Cost (capital/startup): None.

Total Burden Cost (operating/maintenance): None.

Dated: June 3, 2005.
Doug Gerry,
Acting Director of Office of Grants Management.

[FR Doc. 05-11485 Filed 6-9-05; 8:45 am]

BILLING CODE 6050-$$-P